DEPARTMENT OF ENERGY

Federal Energy Regulatory Commission

[Docket No. OR17-9-000]

Whiting Oil and Gas Corporation; Notice of Request for Temporary Waiver

Take notice that on March 14, 2017, Whiting Oil and Gas Corporation (Whiting or Requestor) filed a request for temporary waiver of the Interstate Commerce Act (ICA), section 6 and section 20, and FERC oil pipeline tariff and reporting requirements thereunder at 18 CFR parts 341 and 357, with respect to Whiting's Redtail crude petroleum gathering system in Weld County, Colorado, as more fully explained in the request.

Any person desiring to intervene or to protest this filing must file in accordance with Rules 211 and 214 of the Commission's Rules of Practice and Procedure (18 CFR 385.211 and 385.214. Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on Requestor.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on April 14, 2017.

Dated: March 29, 2017.
Kimberly D. Bose,
Secretary.

[FR Doc. 2017-06614 Filed 4-3-17; 8:45 am]

BILLING CODE 6717-01-P